COMMITTEE FOR PURCHASE FROM PEOPLE WHO ARE BLIND OR SEVERELY DISABLED

Procurement List; Addition and Deletions

AGENCY: Committee for Purchase From People Who Are Blind or Severely Disabled.

ACTION: Addition to and Deletions from the Procurement List.

SUMMARY: This action adds a service to the Procurement List that will be provided by a nonprofit agency employing persons who are blind or have other severe disabilities, and deletes products and a service from the Procurement List previously furnished by such agencies.

DATES: Effective June 19, 2016.

ADDRESSES: Committee for Purchase From People Who Are Blind or Severely Disabled, 1401 S. Clark Street, Suite 715, Arlington, Virginia 22202-4149.

FOR FURTHER INFORMATION CONTACT: Patricia Briscoe, Telephone: (703) 603-7740, Fax: (703) 603-0655, or email CMTEFedReg@AbilityOne.gov.

SUPPLEMENTARY INFORMATION:

Addition

On 7/2/2015 (80 FR 38179), the Committee for Purchase From People Who Are Blind or Severely Disabled published notice of proposed addition to the Procurement List.

After consideration of the material presented to it concerning capability of qualified nonprofit agencies to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing small entities to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Sourcing, Warehousing, Assembly and Kitting Service

Service Is Mandatory for: Montana Army National Guard, Ft Harrison, MT

Mandatory Source of Supply: Industries for the Blind Inc., West Allis, WI

Contracting Activity: United States Property and Fiscal Office (USPFO) Montana, Montana Army National Guard, Fort Harrison, MT

Deletions

On 4/8/2016 (81 FR 20624) and 4/15/2016 (81 FR 22239), the Committee for Purchase From People Who Are Blind or Severely Disabled published notices of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN(s)—Product Name(s):

MR 938—Set, Cleaning, Microfiber, Leaf Print, 5 Piece

MR 951—Set, Cleaning, Microfiber, Cherry Print, 5 Piece

Mandatory Source(s) of Supply: New York City Industries for the Blind, Inc., Brooklyn, NY (Deleted)

Contracting Activity: Defense Commissary Agency

NSN(s)—Product Name(s):

MR 417—Latex Gloves, Long Cuff, Medium, 2 Pair

MR 418—Latex Gloves, Long Cuff, Large, 2 Pair

Mandatory Source(s) of Supply: Alphapointe, Kansas City, MO

Contracting Activity: Defense Commissary Agency

Service Type: Library Service

Mandatory for: Davis-Monthan Air Force Base, Davis-Monthan AFB, AZ

Mandatory Source(s) of Supply: J.P. Industries, Inc., Tucson, AZ

Contracting Activity: Dept of the Air Force, FA4877 355 CONS LGC, Davis-Monthan AFB, AZ

Patricia Briscoe,
Deputy Director, Business Operations, (Pricing and Information Management).

[FR Doc. 2016-11998 Filed 5-19-16; 8:45 am]

BILLING CODE 6353-01-P